DEPARTMENT OF THE INTERIOR

National Park Service

[NPS-WASO-NAGPRA-NPS0027852; PPWOCRADN0-PCU00RP14.R50000]

Notice of Inventory Completion: Fowler Museum at University of California Los Angeles, Los Angeles, CA

AGENCY: National Park Service, Interior.

ACTION: Notice.

SUMMARY: The Fowler Museum at University of California Los Angeles (UCLA) has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Fowler Museum at UCLA. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Fowler Museum at UCLA at the address in this notice by July 3, 2019.

ADDRESSES: Wendy G. Teeter, Ph.D., Fowler Museum at UCLA, Box 951549, Los Angeles, CA 90095-1549, telephone (310) 825-1864, email wteeter@arts.ucla.edu.

SUPPLEMENTARY INFORMATION: Notice is here given in accordance with the Native American Graves Protection and Repatriation Act (NAGPRA), 25 U.S.C. 3003, of the completion of an inventory of human remains and associated funerary objects under the control of the Fowler Museum at University of California Los Angeles, Los Angeles, CA. The human remains and associated funerary objects were removed from an unknown site identified only as “Zuni”.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Fowler Museum professional staff in consultation with representatives of the Zuni Tribe of the Zuni Reservation, New Mexico.

History and Description of the Remains

At an unknown time, human remains representing, at minimum, two individuals were removed from an unknown site, identified by the donor only as “Zuni.” Fowler Museum at UCLA received a large donation in 1966 and 1969 from Mr. W. Thomas Davis, Oxnard Farmlands. This donation included many southwestern objects, including several Zuni “fetish bowls.” One of them included fragmentary human remains representing a minimum number of two individuals. No known individuals were identified. There were 18 objects included with the human remains in a sealed bag. They include 10 pieces of plant stems, one corn cob, three ceramic sherds, two turquoise fragments, and two obsidian projectile points.

The human remains and associated funerary objects are Zuni based on the information provided by the donor on the donation inventory, as well as independent verification that the associated funerary objects are consistent with Zuni cultural traditions.

Determinations Made by the Fowler Museum at University of California Los Angeles

Officials of the Fowler Museum at University of California Los Angeles have determined that:

• Pursuant to 25 U.S.C. 3001(9), the human remains described in this notice represent the physical remains of two individuals of Native American ancestry.

• Pursuant to 25 U.S.C. 3001(3)(A), the 18 objects described in this notice are reasonably believed to have been placed with or near individual human remains at the time of death or later as part of the death rite or ceremony.

• Pursuant to 25 U.S.C. 3001(2), there is a relationship of shared group identity that can be reasonably traced between the Native American human remains and associated funerary objects and the Zuni Tribe of the Zuni Reservation, New Mexico.

Additional Requestors and Disposition

Lineal descendants or representatives of any Indian Tribe or Native Hawaiian organization not identified in this notice that wish to request transfer of control of these human remains and associated funerary objects should submit a written request with information in support of the request to Wendy G Teeter, Ph.D., Fowler Museum at UCLA, Box 951549, Los Angeles, CA 90095-1549, telephone (310) 825-1864, email wteeter@arts.ucla.edu, by July 3, 2019. After that date, if no additional requestors have come forward, transfer of control of the human remains and associated funerary objects and the Zuni Tribe of the Zuni Reservation, New Mexico may proceed.

The Fowler Museum at University of California Los Angeles is responsible for notifying the Zuni Tribe of the Zuni Reservation, New Mexico that this notice has been published.

Dated: May 3, 2019.
Melanie O'Brien,
Manager, National NAGPRA Program.

[FR Doc. 2019-11430 Filed 5-31-19; 8:45 am]

BILLING CODE 4312-52-P